DEPARTMENT OF ENERGY

Federal Energy Regulatory Commission

Combined Notice of Filings No. 1

Take notice that the Commission has received the following Natural Gas Pipeline Rate and Refund Report filings:

Docket Numbers: RP11-2220-000.

Applicants: Rockies Express Pipeline LLC.

Description: Rockies Express Pipeline LLC submits tariff filing per 154.204: Negotiated Rate 2011-06-29 BP and Johnstown to be effective 7/1/2011.

Filed Date: 06/29/2011.

Accession Number: 20110629-5043.

Comment Date: 5 p.m. Eastern Time on Monday, July 11, 2011.

Docket Numbers: RP11-2221-000.

Applicants: Kinder Morgan Interstate Gas Transmission LLC.

Description: Kinder Morgan Interstate Gas Transmission LLC submits tariff filing per 154.204: Negotiated Rate 2011-06-29 Mieco, Concord to be effective 7/1/2011.

Filed Date: 06/29/2011.

Accession Number: 20110629-5081.

Comment Date: 5 p.m. Eastern Time on Monday, July 11, 2011.

Docket Numbers: RP11-2222-000.

Applicants: Panhandle Eastern Pipe Line Company, LP.

Description: Panhandle Eastern Pipe Line Company, LP submits tariff filing per 154.204: Negotiated Rates—1 to be effective 7/1/2011.

Filed Date: 06/30/2011.

Accession Number: 20110630-5053.

Comment Date: 5 p.m. Eastern Time on Tuesday, July 12, 2011.

Docket Numbers: RP11-2223-000.

Applicants: Trunkline Gas Company, LLC.

Description: Trunkline Gas Company, LLC submits tariff filing per 154.204: Negotiated Rates Filing—11 to be effective 7/1/2011.

Filed Date: 06/30/2011.

Accession Number: 20110630-5054.

Comment Date: 5 p.m. Eastern Time on Tuesday, July 12, 2011.

Docket Numbers: RP11-2224-000.

Applicants: Trunkline LNG Company, LLC.

Description: Trunkline LNG Company, LLC submits tariff filing per 154.203: Misc. Revenue Surcharge Report 6-30-11 to be effective N/A.

Filed Date: 06/30/2011.

Accession Number: 20110630-5055.

Comment Date: 5 p.m. Eastern Time on Tuesday, July 12, 2011.

Docket Numbers: RP11-2225-000.

Applicants: Gulf South Pipeline Company, LP.

Description: Gulf South Pipeline Company, LP submits tariff filing per 154.204: Devon 34694-32 Amendment to Negotiated Rate Agreement Filing to be effective 7/1/2011.

Filed Date: 06/30/2011.

Accession Number: 20110630-5081.

Comment Date: 5 p.m. Eastern Time on Tuesday, July 12, 2011.

Docket Numbers: RP11-2226-000.

Applicants: Gulf South Pipeline Company, LP.

Description: Gulf South Pipeline Company, LP submits tariff filing per 154.204: ONEOK 34951 to BP 38951 Capacity Release Negotiated Rate Agreement Filing to be effective 7/1/2011.

Filed Date: 06/30/2011.

Accession Number: 20110630-5084.

Comment Date: 5 p.m. Eastern Time on Tuesday, July 12, 2011.

Docket Numbers: RP11-2227-000.

Applicants: Gulf South Pipeline Company, LP.

Description: Gulf South Pipeline Company, LP submits tariff filing per 154.204: HK 37731 to BP 38952 Capacity Release Negotiated Rate Agreement Filing to be effective 7/1/2011.

Filed Date: 06/30/2011.

Accession Number: 20110630-5087.

Comment Date: 5 p.m. Eastern Time on Tuesday, July 12, 2011.

Docket Numbers: RP11-2228-000.

Applicants: Gulf South Pipeline Company, LP.

Description: Gulf South Pipeline Company, LP submits tariff filing per 154.204: HK 37731 to Texla 38953 Capacity Release Negotiated Rate Agreement Filing to be effective 7/1/2011.

Filed Date: 06/30/2011.

Accession Number: 20110630-5090.

Comment Date: 5 p.m. Eastern Time on Tuesday, July 12, 2011.

Docket Numbers: RP11-2229-000.

Applicants: El Paso Natural Gas Company.

Description: El Paso Natural Gas Company submits tariff filing per 154.203: Order 587-U Compliance FDD IT to be effective 8/1/2011.

Filed Date: 06/30/2011.

Accession Number: 20110630-5109.

Comment Date: 5 p.m. Eastern Time on Tuesday, July 12, 2011.

Docket Numbers: RP11-2230-000.

Applicants: Gulf Crossing Pipeline Company LLC.

Description: Gulf Crossing Pipeline Company LLC submits tariff filing per 154.204: Devon K10-8 Amendment to Negotiated Rate Agreement Filing to be effective 7/1/2011.

Filed Date: 06/30/2011.

Accession Number: 20110630-5112.

Comment Date: 5 p.m. Eastern Time on Tuesday, July 12, 2011.

Docket Numbers: RP11-2231-000.

Applicants: Gulf Crossing Pipeline Company LLC.

Description: Gulf Crossing Pipeline Company LLC submits tariff filing per 154.204: Antero 2 to Tenaska K204 Capacity Release Negotiated Rate Agreement Filing to be effective 7/1/2011.

Filed Date: 06/30/2011.

Accession Number: 20110630-5113.

Comment Date: 5 p.m. Eastern Time on Tuesday, July 12, 2011.

Docket Numbers: RP11-2232-000.

Applicants: Alliance Pipeline L.P.

Description: Alliance Pipeline L.P. submits tariff filing per 154.204: ACE & PAL Services to be effective 8/1/2011.

Filed Date: 06/30/2011.

Accession Number: 20110630-5127.

Comment Date: 5 p.m. Eastern Time on Tuesday, July 12, 2011.

Docket Numbers: RP11-2233-000.

Applicants: ANR Pipeline Company.

Description: ANR Pipeline Company submits tariff filing per 154.203: Operational Purchases and Sales Report Refiling to be effective N/A.

Filed Date: 06/30/2011.

Accession Number: 20110630-5145.

Comment Date: 5 p.m. Eastern Time on Tuesday, July 12, 2011.

Docket Numbers: RP11-2234-000.

Applicants: Texas Eastern Transmission, LP.

Description: Texas Eastern Transmission, LP submits tariff filing per 154.403: EPC Aug 2011 Filing to be effective 8/1/2011.

Filed Date: 06/30/2011.

Accession Number: 20110630-5167.

Comment Date: 5 p.m. Eastern Time on Tuesday, July 12, 2011.

Docket Numbers: RP11-2235-000.

Applicants: Gulfstream Natural Gas System, LLC.

Description: Gulfstream Natural Gas System, LLC submits tariff filing per 154.204: GNGS July 1, 2011, Negotiated Rate Agreements to be effective 7/1/2011.

Filed Date: 06/30/2011.

Accession Number: 20110630-5177.

Comment Date: 5 p.m. Eastern Time on Tuesday, July 12, 2011.

Docket Numbers: RP11-2236-000.

Applicants: Natural Gas Pipeline Company of America LLC.

Description: Natural Gas Pipeline Company of America LLC submits tariff filing per 154.204: Negotiated Rate Filing—EDF Trading to be effective 7/1/2011.

Filed Date: 06/30/2011.

Accession Number: 20110630-5179.

Comment Date: 5 p.m. Eastern Time on Tuesday, July 12, 2011.

Docket Numbers: RP11-2237-000.

Applicants: Wyoming Interstate Company, LLC.

Description: Wyoming Interstate Company, LLC submits tariff filing per 154.204: Agreement Update for Anadarko TSA Nos. 41147 and 41153 to be effective 8/1/2011.

Filed Date: 06/30/2011.

Accession Number: 20110630-5190.

Comment Date: 5 p.m. Eastern Time on Tuesday, July 12, 2011.

Docket Numbers: RP11-2238-000.

Applicants: Algonquin Gas Transmission, LLC.

Description: Algonquin Gas Transmission, LLC submits tariff filing per 154.204: ConEd 2011-07-01 Releases to be effective 7/1/2011.

Filed Date: 06/30/2011.

Accession Number: 20110630-5221.

Comment Date: 5 p.m. Eastern Time on Tuesday, July 12, 2011.

Docket Numbers: RP11-2239-000.

Applicants: Equitrans, L.P.

Description: Equitrans, L.P. submits tariff filing per 154.204: Negotiated Rate Service Agreement Filing to be effective 7/1/2011.

Filed Date: 06/30/2011.

Accession Number: 20110630-5231.

Comment Date: 5 p.m. Eastern Time on Tuesday, July 12, 2011.

Docket Numbers: RP11-2240-000.

Applicants: Guardian Pipeline, LLC.

Description: Guardian Pipeline, LLC submits tariff filing per 154.204: Chevron Amended Agreements to be effective 7/1/2011.

Filed Date: 07/01/2011.

Accession Number: 20110701-5001.

Comment Date: 5 p.m. Eastern Time on Wednesday, July 13, 2011.

Docket Numbers: RP11-2241-000.

Applicants: Gulf States Transmission LLC.

Description: Gulf States Transmission LLC submits tariff filing per 154.204: Gulf States Transmission LLC Miscellaneous Revisions to Tariff to be effective 8/1/2011.

Filed Date: 07/01/2011.

Accession Number: 20110701-5002.

Comment Date: 5 p.m. Eastern Time on Wednesday, July 13, 2011.

Docket Numbers: RP11-2242-000.

Applicants: Petal Gas Storage, LLC.

Description: Petal Gas Storage, LLC submits tariff filing per 154.203: Proxy Group Compliance to be effective 11/2/2010.

Filed Date: 07/01/2011.

Accession Number: 20110701-5038.

Comment Date: 5 p.m. Eastern Time on Wednesday, July 13, 2011.

Docket Numbers: RP11-2243-000.

Applicants: Algonquin Gas Transmission, LLC.

Description: Algonquin Gas Transmission, LLC submits tariff filing per 154.204: ConEd 07-01-2011 Release to DTE to be effective 7/1/2011.

Filed Date: 07/01/2011.

Accession Number: 20110701-5048.

Comment Date: 5 p.m. Eastern Time on Wednesday, July 13, 2011.

Docket Numbers: RP11-2244-000.

Applicants: Gulf Crossing Pipeline Company LLC.

Description: Gulf Crossing Pipeline Company LLC submits tariff filing per 154.204: BP Energy K37-5 Amendment to Negotiated Rate Agreement Filing to be effective 7/1/2011.

Filed Date: 07/01/2011.

Accession Number: 20110701-5066.

Comment Date: 5 p.m. Eastern Time on Wednesday, July 13, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: July 1, 2011.
Nathaniel J. Davis, Sr.,
Deputy Secretary.

[FR Doc. 2011-17137 Filed 7-7-11; 8:45 am]

BILLING CODE 6717-01-P